DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology.

Title: BEES Please.

Form Number(s): None.

OMB Approval Number: None.

Type of Request: Regular submission.

Burden Hours: 1875 hours.

Number of Respondents: 30.

Average Hours Per Response: 45 hours for questionnaire covering 6 environmental impacts; 80 hours for questionnaire covering 10 environmental impacts.

Needs and Uses: Over the last six years, the Building and Fire Research Laboratory of the National Institute of Standards and Technology (NIST) has developed and automated an approach for measuring the life-cycle environmental and economic performance of building products. Known as BEES (Building for Environmental and Economic Sustainability), the tool reduces complex, science-based technical content (e.g., up to 400 material and energy flows from raw material extraction through product disposal) to decision-enabling results and delivers them in a visually intuitive graphical format. While the latest version, BEES 2.0, includes estimated environmental and economic performance data for 65 generic, industry-average building products, NIST has been asked by both EPA and BEES users to deliver more precision and practicality by adding data for manufacturer-specific products. The rationale is that purchasers buy actual products, not industry-averages (there is no such thing), and that actual products likely perform quite differently than their industry averages. The program encouraging collaboration with building product manufacturers so that their products may be scientifically evaluated by BEES is known as BEES Please.

BEES directly supports Executive Order 13101 (9/98), “Greening the Government Through Waste Prevention, Recycling, and Federal Acquisition,” which encourages Federal agencies to purchase environmentally-preferable products. EO 13101 is administered by the U.S. EPA Environmentally Preferable Purchasing Program. In their Congressionally-mandated Final Guidance, which was published in the Federal Register (available at http://www.epa.gov/opptintr/epp/finalguidancetoc.htm), BEES is listed as one of only two life-cycle based resources that Federal agency personnel may find useful in implementing environmentally preferable purchasing. NIST needs information from building product manufacturers so that Federal personnel may consider their products in their environmentally-preferable purchase decisions.

Affected Public: Business and other for-profit organizations.

Frequency: Once.

Respondent's Obligation: Required to obtain or retain benefits.

OMB Desk Officer: David Rostker, (202) 395-3897.

Copies of the above information collection proposal can be obtained by calling or writing Madeleine Clayton, Departmental Paperwork Clearance Officer, (202) 482-3129, Department of Commerce, Room 6086, 14th and Constitution Avenue, NW., Washington, DC 20230 (or via the Internet at Mclayton@doc.gov).

Written comments and recommendations for the proposed information collection should be sent within 30 days of publication of this notice to David Rostker, OMB Desk Officer, Room 10202, New Executive Office Building, Washington, DC 20503.

Dated: May 31, 2001.
Madeleine Clayton,
Departmental Paperwork Clearance Officer, Office of the Chief Information Officer.

[FR Doc. 01-14117 Filed 6-4-01; 8:45 am]

BILLING CODE 3510-13-P